DEPARTMENT OF THE INTERIOR

Bureau of Land Management

[OR-958-1430-ET; OR-56289]

Notice of Proposed Withdrawal; Oregon and California

AGENCY: Bureau of Land Management, Interior.

ACTION: Notice.

SUMMARY: The United States Department of Agriculture, Forest Service, filed an application to withdraw approximately 1,093,953 acres of National Forest System lands from location and entry under the mining laws to protect the nationally significant ecologic and biologic diversity of the Siskiyou Wild Rivers area which also contain outstanding scenic and recreation values, and special status plant and animal species and their habitats. The lands remain open to such uses as may be made of National Forest System lands.

DATES: Written comments should be received on or before April 23, 2001.

ADDRESSES: Written comments should be sent to the Office of the Chief, Forest Service, U.S. Department of Agriculture, 201 14th Street, SW. at Independence Ave., SW., Washington, DC 20250.

SUPPLEMENTARY INFORMATION: The purpose of the proposed withdrawal is to protect the nationally significant ecologic and biologic diversity of the Siskiyou Wild Rivers area which also contain outstanding scenic and recreation values, and special status plant and animal species and their habitats while it is determined whether special management designation for the area is warranted and to assess the views of the public on such a designation. The proposal, if finalized, would withdraw the following described National Forest System lands from location and entry under the mining laws. The lands will remain open to such uses as may be made of National Forest System lands subject to valid existing rights:

1. The National Forest System lands proposed for withdrawal are described as:

Willamette Meridian

T. 31 S., R.'s 10 and 11 W.;

T. 32 S., R.'s 10 to 14 W., inclusive;

T. 33 S., R.'s 10 to 14 W., inclusive;

T. 34 S., R.'s 9 to 13 W., inclusive;

T. 35 S., R.'s 8 to 13 W., inclusive;

T. 36 S., R.'s 7 to 13 W., inclusive;

T. 37 S., R.'s 8 to 13 W., inclusive;

T. 38 S., R.'s 8 to 13 W., inclusive;

T. 39 S., R.'s 5, 6, 9, 10, 11, and 12 W., inclusive;

T. 40 S., R's 5, 6, 7, 9, 10, 11, and 12 W., inclusive;

T. 41 S., R.'s 5 to 12 W., inclusive.

Humbolt Meridian, California

T. 47 N., R.'s 3 to 6 E., inclusive;

T. 48 N., R.'s 4 to 6 E., inclusive.

The area described contains 1,093,953 acres in Oregon and California.

For a period of 90 days from the date of publication of this notice, all persons who wish to submit comments, suggestions, or objections in connection with the proposed withdrawal may present their views in writing to the Chief of the Forest at the address indicated above.

Notice is hereby given that an opportunity for a public meeting is afforded in connection with the proposed withdrawal. All interested persons who desire a public meeting for the purpose of being heard with respect to the proposed withdrawal must submit a written request to the Forest Chief at the address indicated above within 90 days from the date of publication of this notice. Upon determination by the authorized officer that a public meeting will be held, a notice of the time and place will be published in the Federal Register at least 30 days before the scheduled date of the meeting.

The application will be processed in accordance with the regulations set fourth in 43 CFR 2300. For a period of 2 years from the date of publication of this notice in the Federal Register, the land will be segregated as specified above unless the application is denied or canceled or the withdrawal is approved prior to that date. The temporary land uses which may be permitted during the segregative period include licenses, permits, rights-of-way, and disposal of vegetative resources other than under the mining law.

Dated: January 12, 2001.
Nina Rose Hatfield,
Acting Director, Bureau of Land Management.

[FR Doc. 01-1697 Filed 1-19-01; 8:45 am]

BILLING CODE 4310-33-P